ENVIRONMENTAL PROTECTION AGENCY

40 CFR Part 52

[EPA-R06-OAR-2015-0189; FRL-10022-74-Region 6]

Air Plan Approval; Arkansas; Arkansas Regional Haze and Visibility Transport State Implementation Plan Revisions; Correction

AGENCY: Environmental Protection Agency (EPA).

ACTION: Final rule; correction.

SUMMARY: The Environmental Protection Agency (EPA) is correcting a final rule that appeared in the Federal Register on March 22, 2021, and that will become effective on April 21, 2021. The EPA finalized approval of a revision to the Arkansas State Implementation Plan (SIP) submitted by the State of Arkansas through the Arkansas Department of Energy and Environment, Division of Environmental Quality (DEQ). This document corrects an error in the regulatory text. This correction does not change any final action taken by the EPA on March 22, 2021.

DATES: Effective on April 21, 2021.

ADDRESSES: The EPA has established a docket of all documents for this action at https://www.regulations.gov under Docket ID No. EPA-R06-OAR-2015-0189. Although listed in the index, some information is not publicly available, e.g., Confidential Business Information or other information whose disclosure is restricted by statute. Certain other material, such as copyrighted material, is not placed on the internet. Publicly available docket materials are available electronically through https://www.regulations.gov.

FOR FURTHER INFORMATION CONTACT: James E. Grady, EPA Region 6 Office, Regional Haze and SO2 Section, 1201 Elm Street, Suite 500, Dallas, TX 72570, 214-665-6745; grady.james@epa.gov. Out of an abundance of caution for members of the public and our staff, the EPA Region 6 office will be closed to the public to reduce the risk of transmitting COVID-19. Please call or email the contact listed above if you need alternative access to material indexed but not provided in the docket.

SUPPLEMENTARY INFORMATION: On March 22, 2021 (86 FR 15104), EPA published a final rule action, “Air Plan Approval; Arkansas; Arkansas Regional Haze and Visibility Transport State Implementation Plan Revisions.” The final rule approved revisions to the State Implementation Plan (SIP) for the State of Arkansas concerning requirements of the Clean Air Act and the Regional Haze Rule for visibility protection in mandatory Class I Federal areas for the first implementation period and pertain specifically to the Domtar Ashdown Mill. The final rule also approved revisions concerning Arkansas' interstate visibility transport obligations for the following national ambient air quality standards (NAAQS): The 2006 24-hour fine particulate matter (PM2.5) NAAQS; the 2012 annual PM2.5 NAAQS; the 2008 and 2015 eight-hour ozone (O3) NAAQS; the 2010 one-hour nitrogen dioxide (NO2) NAAQS; and the 2010 one-hour SO2 NAAQS. For more information, please see the EPA's rulemaking action at https://www.regulations.gov under Docket ID No. EPA-R06-OAR-2015-0189.

Need for Correction

As published, the regulatory text in the final rule contains an error that omits the amendatory instruction for adding two entries to the table entitled “EPA-Approved Non-Regulatory Provisions and Quasi-Regulatory Measures in the Arkansas SIP” in 40 CFR 52.170(e). The EPA finds that there is good cause to make this correction without providing for notice and comment because neither notice nor comment is necessary and would not be in the public interest due to the nature of the correction which is minor, technical and does not change the obligations already existing in the rule. While the “Identification of Plan” section of the regulatory text accurately includes the three new entries added to the “EPA-Approved Non-Regulatory Provisions and Quasi-Regulatory Measures in the Arkansas SIP” table, the amendatory instruction erroneously states that one entry rather than three are being added to the table. Therefore, the EPA finds that the corrections are merely correcting the amendatory instruction without changing any final action taken by the EPA on March 22, 2021.

Federal Register Correction

In FR Doc. 2021-05362 at 86 FR 15104 in the issue of Monday, March 22, 2021, the following corrections are made:

§ 52.170 [Corrected]

1. On page 15131, in the third column, in amendment 2.b. the instruction “In paragraph (e), the third table titled “EPA-Approved Non-Regulatory Provisions and Quasi-Regulatory Measures in the Arkansas SIP” is amended by adding an entry for “Arkansas Regional Haze Phase III SIP Revision” at the end of the table.” is corrected to read “In paragraph (e), the third table titled “EPA-Approved Non-Regulatory Provisions and Quasi-Regulatory Measures in the Arkansas SIP” is amended by adding entries for “Arkansas Regional Haze Phase III SIP Revision,” “Arkansas 2015 O3 NAAQS Interstate Transport SIP Revision,” and “Arkansas Regional Haze SO2 and PM SIP Revision” at the end of the table.”

Dated: April 14, 2021.
David Gray,
Acting Regional Administrator, Region 6.

[FR Doc. 2021-08004 Filed 4-16-21; 8:45 am]

BILLING CODE 6560-50-P